DEPARTMENT OF AGRICULTURE

Rural Housing Service

7 CFR Part 3560

[Docket No. RHS-22-MFH-0022]

RIN 0575-AD25

30-Day Notification of Nonpayment of Rent in Multi-Family Housing Direct Loan Programs

AGENCY: Rural Housing Service, USDA.

ACTION: Final rule.

SUMMARY: The Rural Housing Service (RHS or Agency), a Rural Development (RD) agency of the United States Department of Agriculture (USDA), is issuing a final rule to amend its regulations for the Multi-Family Housing Direct Loans and Grants Programs to require that Section 515, 514, and 516 Multi-Family Housing program borrowers provide tenants with written notification a minimum of 30 days prior to a lease termination or eviction action for nonpayment of rent, as statutorily required by the Coronavirus Aid, Relief, and Economic Security Act, (CARES Act). The “30-day notice” requirement applies regardless of the existence of a presidentially declared national emergency or the availability of emergency rental assistance funds. This rule will require this notice to include instructions on how a tenant can cure the nonpayment to avoid eviction, and how to recertify household income. This final rule also adds that the Secretary of Agriculture (Secretary) may require MFH Section 515 and 514 borrowers and Section 516 grantees to issue information as provided by the Secretary during a presidential declaration of a public health emergency.

DATES:

Effective date: April 24, 2024.

Compliance dates: The requirement to provide 30 days' notice prior to eviction for nonpayment of rent is statutory and has been in effect since the enactment of the CARES Act on March 27, 2020. MFH Borrowers will be regarded as out of compliance with the provision if they fail to include the 30-day notice requirements [7 CFR 3560.156(c)(18)(xvi)] in the lease no later than September 25, 2025.

Borrowers will be regarded as out of compliance with the remaining provisions of this rule if they fail to provide: (1) the notice of how to cure; (2) information on how the tenant can recertify their income; and (3) information in a national emergency found in 7 CFR 3560.159(a)(3), after April 24, 2024.

FOR FURTHER INFORMATION CONTACT: Michael Resnik, Multi-Family Housing Asset Management Division, Rural Housing Service, Stop 0782, 1400 Independence Avenue SW, Washington, DC 20250-0782, Telephone: (202) 720-1615, Federal Relay Service at (800) 877-8339; or Email: michael.resnik@usda.gov.

SUPPLEMENTARY INFORMATION:

I. Background

USDA's RHS offers a variety of programs to build or improve housing and essential community facilities in rural areas. RHS offers loans, grants, and loan guarantees for single- and multi-family housing, childcare centers, fire and police stations, hospitals, libraries, nursing homes, schools, first responder vehicles and equipment, housing for farm laborers, and much more. RHS also provides technical assistance loans and grants in partnership with non-profit organizations, Indian tribes, State and Federal Government agencies, and local communities.

Title V of the Housing Act of 1949 (Act), authorized USDA to make housing loans to farmers to enable them to provide habitable dwellings for themselves or their tenants, lessees, sharecroppers, and laborers. While the initial intent of the Act was focused on farmers, it evolved to authorize USDA to make housing loans and grants to rural residents which established the Single-Family Housing (SFH) Programs and Multi-Family Housing (MFH) Programs. The Housing Act of 1961 added Section 514 to the Act (42 U.S.C. 1484), which provided loans to farmers and farm associations to provide housing for farm laborers. The Senior Citizens Housing Act of 1962, amended the Act by adding Section 515 (42 U.S.C. 1485), which authorized USDA to provide loans for rural rental housing for low- and moderate-income elderly families. Through further amendments, in 1966 and 1977, the age restrictions were removed from the statute to allow Section 515 loans to be used for congregate housing for the elderly and handicapped. This allowed low- and moderate-income families to be eligible for tenancy in Section 515 rental housing.

The RHS operates the MFH Rural Rental Housing Direct Loan Program under Section 515 of the Act for Rural Rental Housing, and Section 514 and Section 516 of the Act for Farm Labor Housing. The MFH Direct Loan Program employs a public-private partnership by providing subsidized loans at an interest rate of one percent to developers to construct or renovate affordable rental complexes in rural areas. This one-percent loan keeps the debt service on the property sufficiently low to support below-market rents affordable to low-income tenants. Many of these projects also utilize low-income housing tax credit (LIHTC) proceeds. These housing properties with subsidized low interest mortgage loans provide affordable housing for eligible very-low and low-income households in rural areas.

The MFH Direct Loan and Grant Programs under Sections 514 and 516 provide low interest loans and grants to provide housing for farmworkers. These workers may work either at the borrower's farm (“on-farm”) or at the borrower's or any other farm (“off-farm”) and meet all program eligibility requirements.

The Coronavirus Aid, Relief, and Economic Security Act, 2020 (“CARES Act”) was signed into law on March 27, 2020, (Pub. L. 116-136), (15 U.S.C. 9001 et seq.). Section 4024(c) of the CARES Act [15 U.S.C. 9058 SEC. 4024. TEMPORARY MORATORIUM ON EVICTION FILINGS (a)(2)(B)] requires landlords of certain rental “covered dwellings” to provide tenants with at least 30 days' notice before they must vacate the property, notwithstanding a presidentially declared national emergency. “Covered dwellings” are defined as rental units in that have a “Federally backed multifamily mortgage loan.” Properties receiving assistance under Section 514, 515, or 516 are considered “covered dwellings.”

II. Purpose

This final rule amends 7 CFR part 3560 to provide a 30-day notification requirement prior to evicting a tenant for nonpayment of rent. This is consistent with this requirement of the CARES Act, where “The lessor of a covered dwelling unit [. . .] may not require the tenant to vacate the covered dwelling unit before the date that is 30 days after the date on which the lessor provides the tenant with a notice to vacate.” (Pub. L. 116-136, 134 Stat. 281 (2020); 15 U.S.C. 9058). This final rule will also require that the 30-day notice include instructions on how tenants can cure lease violations for nonpayment of rent. These instructions allow tenants to clearly understand how to avoid the commencement of a formal judicial eviction proceeding for nonpayment of rent. In most cases, instructions on how the tenant can cure the nonpayment of rent violation will include the alleged amount of rent owed by the tenant, possibly including any other arrearages due to the MFH property, and the date by which the tenant must pay the rent and arrearages to avoid the filing of an eviction action in state court against the tenant's household.

During a presidentially declared national emergency, this final rule also requires that the MFH Section 515, 514, and 516 borrowers and grantees must provide tenants with Agency-provided information. In particular, the Secretary of Agriculture may require these MFH borrowers to provide tenants with information on select applicable emergency funding sources. This requirement is a direct result of the COVID-19 pandemic where some U.S. households faced housing insecurity due to job loss and a preexisting affordable housing crisis. During this time, the Federal Government and State, territorial, Tribal, and local governments began efforts to provide support for affected families, with emergency financial assistance. MFH mailed letters in March 2021 to all MFH Direct Loan program borrowers and tenants regarding the Emergency Rental Assistance program through the Department of the Treasury. This ensured that all tenants had access to the information to apply to the program, if needed. However, the direct mailing was costly and possibly delayed the dissemination of vital financial assistance to some tenants facing eviction due to nonpayment of rent during the COVID-19 pandemic. As a result of this rulemaking, MFH borrowers will be required to provide this written notification in accessible formats, including translations for tenants with Limited English Proficiency, as through current MFH lease requirements. This rule requires borrowers to provide tenants written notification of eviction, including translations for tenants with limited English proficiency. Section 504 of the Rehabilitation Act of 1973 also requires recipients of Federal financial assistance to ensure that communications with people with disabilities are as effective as communications with others. Borrowers thus may have additional obligations outside this rulemaking to ensure that notification of eviction is provided to borrowers with disabilities in accessible formats.

III. Scope

This final rule conforms the regulatory lease requirement to the new statutory requirement in place since the CARES Act was signed into law on March 27, 2020. This also aligns the MFH Direct Loan programs with the Department of Housing and Urban Development's best practices and enables the Secretary of Agriculture and MFH programs to be more responsive to economic conditions and housing stability.

Tenants in MFH housing are primarily low income, with annual household incomes for households in Section 515 averaging $14,941 and in Section 514/516 Farm Labor Housing averaging $29,683 in total adjusted income.¹ This final rule amends § 3560.158, “Changes in tenant eligibility,” § 3560.159, “Termination of occupancy,” and § 3560.160, “Tenant grievances” to ensure that tenants in the Section 515, 514 and 516 MFH properties are afforded, at minimum, 30-days' notice to have the opportunity to recertify for change in income and clarify the total amount of rent due before an eviction for nonpayment of rent commences.

¹ 2022 Multi-Family Housing Annual Fair Housing Occupancy Report https://www.rd.usda.gov/sites/default/files/RDUL-MFH_Occupancy_Report.pdf.

Most MFH Section 515 and 514 borrowers and Section 516 grantees, through their corresponding property management companies, already provide written notice of nonpayment of rent violations to tenant households at least 30 days in advance of eviction proceedings. This statutory requirement has been in place since the enactment of the CARES Act in March 2020, and is not limited to periods of national emergency. RHS allows 18 months after publication of this rule to expressly incorporate the 30-day notice requirement into Section 515, 514 and 516 leases through a provision or addendum. This will allow borrowers to revise all current leases as they are renewed on an annual basis. However, in the interim, borrowers and property management companies must continue to comply with the statutory requirement to provide written notice at least 30 days in advance of eviction proceedings. This required 30-day notice provides the opportunity for eligible MFH tenants to report changes in income through income recertification. Within 30 days of this rule's publication in the Federal Register, all 30-day notices will be required to provide tenants with the date and past due amount by which the tenant must pay to avoid the filing of an eviction action in state court against the tenant's household.

The requirement to include information from the Secretary, provided to the borrower through RHS, during a presidentially declared national emergency would take effect only during the associated national emergency period. Immediate action to disseminate this information is necessary to ensure that any funding available during national emergencies reaches its intended beneficiaries before the initiation of evictions for nonpayment of rent. This final rule directly aligns with the Department of Housing and Urban Development's interim final rule, “Extension of Time and Required Disclosures for Notification of Nonpayment of Rent,” published October 7, 2021 (86 FR 55693).

IV. Summary of Rule Changes

Listed below is a summary of changes to the 7 CFR part 3560, subpart D. For compliance dates, please refer to the DATES section in this document.

§ 3560.156 Lease Requirements

In this section, this final rule adds a new sentence to paragraph (c)(18)(xvi) to specify that the procedures to be followed in giving notices required under terms of the lease, including lease violation notices, provide that, in cases of nonpayment of rent, the termination notice will be effective no earlier than 30 days after the tenant's receipt of the written termination notice.

§ 3560.159 Termination of Occupancy

In this section, this final rule adds new paragraph (a)(3) to require that all notices of lease termination due to a tenant's failure to pay rent must also include instructions on how the tenant can cure the nonpayment of rent violation, and information on how the tenant can recertify their income. This section also adds that MFH Section 515 and 514 borrowers and Section 516 grantees may be required to issue information as provided by the Secretary of Agriculture during a presidential declaration of a public health emergency. This may include but not be limited to Agency-issued information on funding available to tenants through Federal programs aimed at preventing eviction.

§ 3560.160 Tenant Grievances

In this section, this final rule revises paragraph (c) to reorganize the text, clarify the responsibilities of a borrow or grantee with respect to tenants with limited English proficiency, and add new language to require that, in the event of a public health emergency, the borrower or grantee must provide tenants with the Agency-provided information described in § 3560.159.

Regulatory Information

Statutory Authority

The Rural Rental Housing program is authorized under Section 514, 515 and 516 of Title V of the Housing Act of 1949 as amended, 42 U.S.C. 1480 and implemented by 7 CFR 3560. The 30-Day Notification requirement was imposed by the Coronavirus Aid, Relief, and Economic Security Act, 2020, Public Law 116-136, 15 U.S.C. 9001 et seq.

Administrative Procedure Act

The Agency is issuing this final rule without advance rulemaking or public comment. RHS Multi-Family housing regulations are exempt from the Administrative Procedure Act (APA) pursuant to 5 U.S.C. 553(a)(2). The regulations at 7 CFR part 3560 implement the affordable housing loan and grant program established pursuant to Title V of the Housing Act of 1949, 42 U.S.C. 1471 et seq. Rules and regulations relating to occupancy in RHS-funded multi-family projects, such as this 30-day notice requirement, are necessary to support the Agency's statutory requirement to provide affordable housing through the Section 515 and Section 514 loan programs and the Section 516 grant program.

When implementing the Housing Act of 1949, USDA is governed by the notice and comment requirements of Section 534 of that Act. However, this rule implements a requirement of the CARES Act, not the Act. There is no rulemaking provision in the CARES Act that would govern the method of issuing or implementing a rule pursuant to that statute. Accordingly, there is no notice and comment requirement applicable to this rule.

Severability

It is USDA's intention that the provisions of this final rule shall operate independently of each other. In the event that this final rule or any portion of this final rule is ultimately declared invalid or stayed as to a particular provision, it is USDA's intent that the rule nonetheless be severable and remain valid with respect to those provisions not affected by a declaration of invalidity or stayed, which could continue to function sensibly. USDA concludes it would separately adopt all of the provisions contained in this final rule.

Executive Order 12372—Intergovernmental Review of Federal Programs

Section 515 and Section 514 Direct Loans and Section 516 Grants are subject to the provisions of Executive Order 12372, which require intergovernmental consultation with State and local officials to foster the intergovernmental partnership and strengthen federalism by relying on State and local processes for the coordination and review of proposed Federal financial assistance and direct Federal development.

Applicants for the Direct Multi-Family Housing Loan and Grant program are required to contact their state's Single Point of Contact (SPOC) to submit their Statement of Activities and find out more information on how to comply with the state's process under Executive Order 12372. To locate a SPOC for your state, the Office of Management and Budget (OMB) has an official SPOC list on their website at https://www.whitehouse.gov/wp-content/uploads/2023/06/SPOC-list-as-of-2023.pdf. For those States that have a home page for their designated SPOC, a direct link has been provided by clicking on the State name. SPOC information is also available in any RD Agency office or on the RD Agency's website.

States that are not listed on the OMB website page have chosen not to participate in the intergovernmental review process, and therefore do not have a SPOC. If you are located within a State that does not have a SPOC, you may send application materials directly to the Federal RD awarding agency.

RHS conducts intergovernmental consultations for each loan in accordance with 2 CFR part 415, subpart C.

Executive Order 12866—Regulatory Planning and Review

This final rule has been determined to be a “significant regulatory action” under Executive Order 12866 and accordingly, the rule has been reviewed by the OMB. A regulatory impact analysis (RIA) was completed, outlining the costs and benefits of implementing this program in rural America.

As detailed in the RIA, this final rule could mitigate eviction-related costs by giving MFH Section 515, 514 and 516 households a minimum of 30 days' notice with actionable information on recertifying income changes and deadlines for property debt payments before lease termination.

This final rule will not affect MFH borrowers directly, as the provision for a minimum of 30 days' notice before eviction for nonpayment of rent is already in place through CARES Act requirements and other state and national required postponements of eviction, which effectively negate any effects of this rule on its own mandate.

The additional requirement for MFH borrowers to disseminate information provided by the Secretary of Agriculture will allow tenants to apply for and possibly receive applicable Federal emergency rental subsidy that may be available in presidentially declared national emergencies. The cost of obtaining information to be disseminated upon presidentially declared national emergency would be minimal since RHS would supply the information to MFH borrowers and property management companies. The incremental cost of adding the supplied information from RHS is also expected to be minimal. Many MFH borrowers and associated management agents, would provide tenants with information on seeking additional emergency rent subsidy without being required to do so. For those pro-active borrowers and management agents, the rule would not impose additional administrative costs. If, however, a borrower does not already practice this type of tenant outreach, then the added administrative hurdle would impose a minimal burden.

All MFH borrowers are expected to incur other costs from this rule including familiarization and miscellaneous administrative costs for minor additional paperwork. This category of cost is expected to be small when compared to other economic effects already in place for this rule. This rule does not require housing providers to rewrite lease agreements, only to amend the requirement for 30-day minimum notice for nonpayment of rent or add an addendum to current leases.

To view the complete RIA, please see the rulemaking docket at https://www.regulations.gov using docket number RHS-23-MFH-0022.

Executive Order 12988, Civil Justice Reform

This final rule has been reviewed under Executive Order 12988. Under this rule: (1) unless otherwise specifically provided, all State and local laws that conflict with this rule will be preempted; (2) no retroactive effect will be given except as specifically prescribed in the rule; and (3) administrative proceedings of the National Appeals Division of the Department of Agriculture (7 CFR part 11) must be exhausted before bringing a lawsuit in Federal court that challenges action taken under this rule.

Executive Order 13132, Federalism

The policies contained in this final rule do not have any substantial direct effect on States, on the relationship between the National Government and States, or on the distribution of power and responsibilities among the various levels of government. Nor does this final rule impose substantial direct compliance costs on State and local governments. Therefore, consultation with the States is not required.

Executive Order 13175, Consultation and Coordination With Indian Tribal Governments

This final rule has been reviewed in accordance with the requirements of Executive Order 13175, “Consultation and Coordination with Indian Tribal Governments.” Executive Order 13175 requires Federal agencies to consult and coordinate with Tribes on a government-to-government basis on policies that have tribal implications, including regulations, legislative comments or proposed legislation, and other policy statements or actions that have substantial direct effects on one or more Indian Tribes, on the relationship between the Federal Government and Indian Tribes or on the distribution of power and responsibilities between the Federal Government and Indian Tribes.

RHS has determined that this rule does not have substantial direct effects on one or more Tribes. Should a tribe request consultation, RHS will work with the USDA Office of Tribal Relations to ensure that meaningful consultation occurs on provisions.

Unfunded Mandates Reform Act (UMRA)

Title II of the UMRA, Public Law 104-4, establishes requirements for Federal agencies to assess the effects of their regulatory actions on State, local, and tribal Governments and on the private sector. Under section 202 of the UMRA, Federal agencies generally must prepare a written statement, including cost-benefit analysis, for proposed and final rules with “Federal mandates” that may result in expenditures to State, local, or tribal Governments, in the aggregate, or to the private sector, of $100 million or more in any one year. When such a statement is needed for a rule, section 205 of the UMRA generally requires a Federal agency to identify and consider a reasonable number of regulatory alternatives and adopt the least costly, more cost-effective, or least burdensome alternative that achieves the objectives of the rule.

This final rule contains no Federal mandates (under the regulatory provisions of title II of the UMRA) for State, local, and tribal Governments or for the private sector. Therefore, this rule is not subject to the requirements of sections 202 and 205 of the UMRA.

National Environmental Policy Act

In accordance with the National Environmental Policy Act of 1969, Public Law 91-190, this final rule has been reviewed in accordance with 7 CFR part 1970 (“Environmental Policies and Procedures”). The Agency has determined that: (1) this action meets the criteria established in 7 CFR 1970.53(f); (2) no extraordinary circumstances exist; and (3) the action is not “connected” to other actions with potentially significant impacts, is not considered a “cumulative action” and is not precluded by 40 CFR 1506.1. Therefore, the Agency has determined that the action does not have a significant effect on the human environment, and therefore neither an Environmental Assessment nor an Environmental Impact Statement is required.

Regulatory Flexibility Act

This final rule has been reviewed with regard to the requirements of the Regulatory Flexibility Act (5 U.S.C. 601-612). The undersigned has determined and certified by signature on this document that this final rule will not have a significant economic impact on a substantial number of small entities. This final rule will not directly affect the approximately 11,700 MFH borrowers, most of which are small entities, as the provision for a minimum of 30 days' notice before eviction for nonpayment of rent is already in place through CARES Act requirements and other state and national required postponements of eviction, which effectively negate any effects of this rule on its own mandate. Other provisions of this final rule require minor action on the MFH Borrowers, having costs consistent with the usual course of property and tenant management. MFH currently requires a 30-day notification of eviction for nonpayment of rent. This final rule could mitigate eviction-related costs by giving MFH Section 515, 514 and 516 households a minimum of 30 days' notice with actionable information on recertifying income changes and deadlines for property debt payments before lease termination. To view the complete Regulatory Impact Analysis (RIA) outlining the costs and benefits, please see the rulemaking docket at https://www.regulations.gov using docket number RHS-23-MFH-0022.

Assistance Listing

The program affected by this regulation is listed in the Assistance Listing Catalog (formerly Catalog of Federal Domestic Assistance) under numbers 10.415—Rural Rental Housing Loans and 10.405—Farm Labor Housing Loans and Grants.

Paperwork Reduction Act

The information collection requirements contained in this regulation have been approved by OMB and have been assigned OMB control number 0575-0189. This final rule contains no new reporting and recordkeeping requirements that would require approval under the Paperwork Reduction Act of 1995 (44 U.S.C. Chapter 35).

E-Government Act Compliance

RHS is committed to complying with the E-Government Act by promoting the use of the internet and other information technologies to provide increased opportunities for citizen access to Government information, services, and other purposes.

Non-Discrimination Statement Policy

In accordance with Federal civil rights laws and U.S. Department of Agriculture (USDA) civil rights regulations and policies, the USDA, its Mission Areas, agencies, staff offices, employees, and institutions participating in, or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Recipients of Federal financial assistance must take reasonable steps to ensure meaningful access to their programs or activities to individuals with limited English proficiency and may need to provide program information in languages other than English.

Persons with disabilities who require alternative means of communication to obtain program information (e.g., Braille, large print, audiotape, American Sign Language) should contact the responsible Mission Area, agency, staff office, or the Federal Relay Service at (800) 877-8339.

To file a program discrimination complaint, a complainant should complete a Form AD-3027, USDA Program Discrimination Complaint Form, which can be obtained online at https://www.usda.gov/sites/default/files/documents/ad-3027.pdf, from any USDA office, by calling (866) 632-9992, or by writing a letter addressed to USDA. The letter must contain the complainant's name, address, telephone number, and a written description of the alleged discriminatory action in sufficient detail to inform the Assistant Secretary for Civil Rights (ASCR) about the nature and date of an alleged civil rights violation. The completed AD-3027 form or letter must be submitted to USDA by:

(1) Mail: U.S. Department of Agriculture, Office of the Assistant Secretary for Civil Rights, 1400 Independence Avenue SW, Washington, DC 20250-9410; or

(2) Fax: (833) 256-1665 or (202) 690-7442; or

(3) Email: program.intake@usda.gov.

USDA is an equal opportunity provider, employer, and lender.

List of Subjects in 7 CFR Part 3560

Accounting, Administrative practice and procedure, Aged, Conflict of interest, Government property management, Grant programs—housing and community development, Insurance, Loan programs—agriculture, Loan programs—housing and community development, Low and moderate-income housing, Migrant labor, Mortgages, Nonprofit organizations, Public housing, Rent subsidies, Reporting and recordkeeping requirements, Rural areas.

For the reasons set forth in the preamble, the Rural Housing Service amends 7 CFR part 3560 as follows:

PART 3560—DIRECT MULTI-FAMILY HOUSING LOANS AND GRANTS

1. The authority citation for part 3560 continues to read as follows:

Authority: 42 U.S.C. 1480.

Subpart D—Multi-Family Housing Occupancy

* * * * *

2. Amend § 3560.156 by revising paragraph (c)(18)(xvi) to read as follows:

§ 3560.156 Lease requirements.

* * * * *

(c) * * *

(18) * * *

(xvi) The procedures that must be followed by the borrower and the tenant in giving notices required under terms of the lease, including lease violation notices. The lease will provide that, in cases of nonpayment of rent, the termination notice will be effective no earlier than 30 days after the tenant's receipt of the written termination notice.

* * * * *

3. Amend § 3560.159 by adding paragraph (a)(3) to read as follows:

§ 3560.159 Termination of occupancy.

* * * * *

(a) * * *

(3) In cases of nonpayment of rent, the termination notice will be effective no earlier than 30 days after the tenant's receipt of the written termination notice. Notice will be provided in accordance with § 3560.160(e) of this chapter. All notices of lease termination required by this section due to a tenant's failure to pay rent must also include the following:

(i) Instructions on how the tenant can cure the nonpayment of rent violation;

(ii) Information on how the tenant can recertify their income pursuant to 7 CFR 3560.152; and

(iii) In the event of a presidential declaration of a national emergency, such information as required by the Secretary.

* * * * *

4. Amend § 3560.160 by revising paragraph (c) to read as follows:

§ 3560.160 Tenant grievances.

* * * * *

(c) Borrower responsibilities.

(1) Borrowers must permanently post tenant grievance procedures that meet the requirements of this section in a conspicuous place at the housing project. Borrowers also must maintain copies of the tenant grievance procedures at the housing project's management office for inspection by the tenants and the Agency upon request.

(2) Each tenant must receive an Agency summary of tenant's rights when a lease agreement is signed.

(3) If a tenant has limited English proficiency (LEP), the borrower must provide grievance procedures in both English and the primary language of the person with LEP(s). The notice must include the telephone number and address of USDA's Office of Civil Rights and the appropriate Regional Fair Housing and Enforcement Agency.

(4) If the Secretary determines that all tenants must be provided with information regarding funding that is available due to a presidential declaration of a public health emergency, the Borrower must provide information to all tenants as stated in § 3560.159(a)(3)(iii) of this chapter.

* * * * *

Joaquin Altoro,
Administrator, Rural Housing Service.

[FR Doc. 2024-06245 Filed 3-22-24; 8:45 am]

BILLING CODE 3410-XV-P